DEPARTMENT OF HEALTH AND HUMAN SERVICES

National Institutes of Health

Center For Scientific Review; Amended Notice of Meeting

Notice is hereby given of a change in the meeting of the Center for Scientific Review Special Emphasis Panel, July 19, 2012, 10:00 a.m. to July 20, 2012, 5:00 p.m., National Institutes of Health, 6701 Rockledge Drive, Bethesda, MD, 20892 which was published in the Federal Register on June 21, 2012, 77 FR 37426.

The meeting will be held August 6, 2012 to August 7, 2012. The meeting time and location remain the same. The meeting is closed to the public.

Dated: July 6, 2012.
Carolyn A. Baum,
Program Analyst, Office of Federal Advisory Committee Policy.

[FR Doc. 2012-17007 Filed 7-11-12; 8:45 am]

BILLING CODE 4140-01-P